DEPARTMENT OF COMMERCE

National Oceanic and Atmospheric Administration

RIN 0648-XF028

North Pacific Fishery Management Council; Public Meeting

AGENCY: National Marine Fisheries Service (NMFS), National Oceanic and Atmospheric Administration (NOAA), Commerce.

ACTION: Notice of public teleconference meetings.

SUMMARY: The North Pacific Fishery Management Council (Council) Electronic Monitoring Workgroup (EMWG) will hold public meetings on November 28 and 29, 2016.

DATES: The meetings will begin at 12 p.m. on Monday, November 28, 2016 and end at 5 p.m. (Alaska Time) on November 29, 2016, to view the agenda SUPPLEMENTARY INFORMATION.

ADDRESSES: The meetings will be held in the Tokyo Boardroom at The Conference Center of Seattle-Tacoma International Airport, 1708 International Blvd., Seattle, WA 98158. The meeting will be available by teleconference, at (907) 271-2896.

Council address: North Pacific Fishery Management Council, 605 W. 4th Ave., Suite 306, Anchorage, AK 99501-2252; telephone (907) 271-2809.

FOR FURTHER INFORMATION CONTACT: Diana Evans, Council staff; telephone: 907-271-2809.

SUPPLEMENTARY INFORMATION:

Agenda

Monday November 28, 2016 and Tuesday November 29, 2016

The agenda will include (a) EM Integration Analysis; (b) 2017 Pre-Implementation Plan; (c) Research and development in 2017 and (d) Other business and scheduling. The Agenda is subject to change, and the latest version will be posted, at http://www.npfmc.org/.

Special Accommodations

These meetings are physically accessible to people with disabilities. Requests for sign language interpretation or other auxiliary aids should be directed to Shannon Gleason, at (907) 271-2809, at least 7 business days prior to the meeting date.

Authority: 16 U.S.C. 1801 et seq.

Dated: November 8, 2016.
Tracey L. Thompson,
Acting Director, Office of Sustainable Fisheries, National Marine Fisheries Service.

[FR Doc. 2016-27278 Filed 11-10-16; 8:45 am]

BILLING CODE 3510-22-P